DEPARTMENT OF THE INTERIOR

National Park Service

[NPS-WASO-NAGPRA-NPS0038347; PPWOCRADN0-PCU00RP14.R50000]

Notice of Intended Repatriation: The Metropolitan Museum of Art, New York, NY

AGENCY: National Park Service, Interior.

ACTION: Notice.

SUMMARY: In accordance with the Native American Graves Protection and Repatriation Act (NAGPRA), the Metropolitan Museum of Art (the Met) intends to repatriate certain cultural items that meet the definition of unassociated funerary objects or objects of cultural patrimony and that have a cultural affiliation with the Indian Tribes or Native Hawaiian organizations listed in this notice.

DATES: Repatriation of the cultural items in this notice may occur on or after August 29, 2024.

ADDRESSES: Jennifer Day, NAGPRA Coordinator & Community Liaison, The Metropolitan Museum of Art, 1000 Fifth Avenue, New York, NY 10028, telephone (212) 396-2616, email jennifer.day@metmuseum.org.

SUPPLEMENTARY INFORMATION: This notice is published as part of the National Park Service's administrative responsibilities under NAGPRA. The determinations in this notice are the sole responsibility of the Met, and additional information on the determinations in this notice, including the results of consultation, can be found in the summary or related records. The National Park Service is not responsible for the determinations in this notice.

Abstract of Information Available

A total of nine cultural items have been requested for repatriation. The five objects of cultural patrimony are one Raven Rattle (Met acc. no. 1979.206.439), one Dagger (1979.206.884), two Ceremonial Robes (Chilkat Blankets) (1979.206.1040 and 1986.476.8), and one Headdress Frontlet (2011.154.37). The four unassociated funerary objects are one necklace with pendants (1978.412.212), one amulet (1979.206.518), one transformation mask (2002.602.2a-d), and one mask (1979.206.440). The latter mask was obtained by Walter C. Waters in Wrangell, AK, under unknown conditions. Consultation with the Central Council of the Tlingit & Haida Indian Tribes indicate that these four items were shamanic items and so likely would have been placed at the shaman's gravesite. Museum records indicate that the cultural items are from Alaska; with the exceptions indicated, the Met has no other geographical information about the items.

Determinations

The Met has reasonably determined that:

• The four unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The five objects of cultural patrimony described in this notice have ongoing historical, traditional, or cultural importance central to the Native American group, including any constituent sub-group (such as a band, clan, lineage, ceremonial society, or other subdivision), according to the Native American traditional knowledge of an Indian Tribe or Native Hawaiian organization, and furthermore, these objects are reasonably identified as being of such importance central to the group that they cannot or could not be alienated, appropriated, or conveyed by any person, including their caretaker, regardless of whether the person is a member of the group, and they have been considered inalienable by the group at the time the object was separated from the group.

• There is a reasonable connection between the cultural items described in this notice and the Central Council of the Tlingit & Haida Indian Tribes.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 29, 2024. If competing requests for repatriation are received, the Met must determine the most appropriate requestor prior to repatriation. Requests for joint repatriation of the cultural items are considered a single request and not competing requests. The Met is responsible for sending a copy of this notice to the Indian Tribes and Native Hawaiian organizations identified in This Notice And To Any Other Consulting Parties.

Authority: Native American Graves Protection and Repatriation Act, 25 U.S.C. 3004 and the implementing regulations, 43 CFR 10.9.

Dated: July 17, 2024.
Melanie O'Brien,
Manager, National NAGPRA Program.

[FR Doc. 2024-16703 Filed 7-29-24; 8:45 am]

BILLING CODE 4312-52-P